DEPARTMENT OF ENERGY

Federal Energy Regulatory Commission

[Project No. 2107]

Pacific Gas and Electric Company; Notice of Authorization for Continued Project Operation

October 24, 2003.

On July 2, 2002, Pacific Gas and Electric Company, licensee for the Poe Project No. 2107, filed a notice of intent to file application for a new license pursuant to the Federal Power Act (FPA) and the Commission's regulations thereunder. Project No. 2107 is located on the North Fork Feather River in Butte County, California.

The license for Project No. 2107 was issued for a period ending September 30, 2003. Section 15(a)(1) of the FPA, 16 U.S.C. 808(a)(1), requires the Commission, at the expiration of a license term, to issue from year to year an annual license to the then licensee under the terms and conditions of the prior license until a new license is issued, or the project is otherwise disposed of as provided in Section 15 or any other applicable section of the FPA.

The project is subject to Section 15 of the FPA, therefore notice is hereby given that an annual license for Project No. 2107 is issued to Pacific Gas and Electric Company for a period effective October 1, 2003 through September 30, 2004, or until the issuance of a new license for the project or other disposition under the FPA, whichever comes first. If issuance of a new license (or other disposition) does not take place on or before October 1, 2004, notice is hereby given that, pursuant to 18 CFR 16.18(c), an annual license under Section 15(a)(1) of the FPA is renewed automatically without further order or notice by the Commission, unless the Commission orders otherwise.

Magalie R. Salas,
Secretary.

[FR Doc. E3-00149 Filed 10-30-03; 8:45 am]

BILLING CODE 6717-01-P